DEPARTMENT OF LABOR

Employment and Training Administration

[TA-W-70,642]

Williams Controls, Inc., Portland, OR; Notice of Termination of Investigation

Pursuant to Section 223 of the Trade Act of 1974, as amended, an investigation was initiated in response to a petition filed on May 28, 2009, on behalf of workers of Williams Controls, Inc., Portland, Oregon.

The petition filed with the Department has been deemed invalid. A petition when filed by workers must be signed by three workers. This requirement was not met.

Consequently, the investigation has been terminated.

Signed at Washington, DC, this 13th day of July 2009.
Linda G. Poole,
Certifying Officer, Division of Trade Adjustment Assistance.

[FR Doc. E9-18049 Filed 7-28-09; 8:45 am]

BILLING CODE 4510-FN-P